SURFACE TRANSPORTATION BOARD

[Docket No. FD 36704]

The Warren & Trumbull Railroad Company—Acquisition and Operation Exemption—Economic Development Rail II Corporation

The Warren & Trumbull Railroad Company (WTRC), a Class III rail carrier, has filed a verified notice of exemption under 49 CFR 1150.41 to acquire from Economic Development Rail II Corporation (EDR-II), and to operate approximately 8.97 miles of rail line and associated right-of-way including: (1) the property known as North Warren Railroad located along the 2.78 miles of track between milepost 91.60 near the North Warren Station in Warren, Ohio and milepost 94.38 at North Warren in North Trumbull, Ohio; (2) the property known as a portion of Conrail's Freedom Secondary Railroad between milepost 164.52 and milepost 160.60 in Warren, Ohio, and the K-Mart Lead extending from its connection with the Freedom Secondary at milepost 81.00 up to and including milepost 81.70; (3) the K-Mart Lead from milepost 81.70 up to and including milepost 82.90; and (4) the section of track beginning at milepost 82.90 up to and including track to the east R.O.W. of Park Avenue being 1435.61 feet ± (the Lines).

According to the verified notice, WTRC has operated over the Lines pursuant to an agreement between WTRC and EDR-II, and now WTRC seeks authority to acquire ownership of the Lines from EDR II.

The verified notice states that the parties entered into a Purchase and Sale Agreement for WTRC to acquire and operate the Lines. WTRC states that the transaction will proceed as of the effective date of this notice of exemption.

WTRC certifies that the proposed acquisition of the Lines does not involve any interchange commitments. WTRC further certifies that its projected revenues as a result of this transaction will not exceed those that would qualify it as a Class III carrier and will not exceed $5 million.

The transaction may be consummated on or after September 27, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 20, 2023.

All pleadings, referring to Docket No. FD 36704, must be filed with the Surface Transportation Board either via e-filing on the Board's website or in writing addressed to 395 E Street SW, Washington, DC 20423-0001. In addition, one copy of each pleading must be served on WTRC's representative, Eric M. Hocky, Clark Hill PLC, Two Commerce Square, 2001 Market Street, Suite 2620, Philadelphia, PA 19103.

According to WTRC, this action is categorically excluded from environmental review under 49 CFR 1105.6(c) and from historic reporting requirements under 49 CFR 1105.8(b).

Board decisions and notices are available at www.stb.gov.

Decided: September 8, 2023.
By the Board, Mai T. Dinh, Director, Office of Proceedings.
Raina White,
Clearance Clerk.

[FR Doc. 2023-19788 Filed 9-12-23; 8:45 am]

BILLING CODE 4915-01-P